DEPARTMENT OF ENERGY

Federal Energy Regulatory Commission

Notice of Application for Extension of Time To Commence and Complete Construction and Soliciting Comments, Motions To Intervene, and Protests

October 30, 2003.

Take notice that the following hydroelectric application has been filed with the Commission and is available for public inspection:

a. Application Type: Extension of Time to Commence and Complete Construction.

b. Project No: 10395-026.

c. Date Filed: September 29, 2003.

d. Applicant: City of Augusta, Kentucky.

e. Name and Location of Project: The Meldahl Hydroelectric Project is to be located at the U.S. Army Corps of Engineers' Meldahl Locks and Dam on the Ohio River in Bracken County, Kentucky.

f. Filed Pursuant to: Public Law 105-213 and sections 4.200c and 4.202a of the Commission's regulations.

g. Applicant Contact: James B. Price, Meldahl Hydroelectric, LLC, P.O. Box 903, Gatlinburg, TN 37738, (865) 436-0402.

h. FERC Contact: James Hunter, (202) 502-6086.

i. Deadline for filing comments, protests, and motions to intervene: December 1, 2003.

All documents (original and eight copies) should be filed with: Magalie R. Salas, Secretary, Federal Energy Regulatory Commission, 888 First Street, NE, Washington, DC 20426. Comments, protests, and interventions may be filed electronically via the Internet in lieu of paper; see 18 CFR 385.2001(a)(1)(iii) and the instructions on the Commission's Web site under the “e-Filing” link. The Commission strongly encourages electronic filings. Please include the project number (P-10395) on any comments or motions filed.

The Commission's Rules of Practice and Procedure require all interveners filing a document with the Commission to serve a copy of that document on each person in the official service list for the project. Further, if an intervener files comments or documents with the Commission relating to the merits of an issue that may affect the responsibilities of a particular resource agency, they must also serve a copy of the documents on that resource agency.

j. Description of Application: The Applicant requests that the deadline for commencement of project construction be extended to July 31, 2005, as authorized by Public Law 105-213. In support of its request, the Applicant states that it has expended considerable sums on project development and is proposing an amendment of the project design that would substantially reduce the project cost. The deadline for completion of construction would also be extended.

k. This filing is available for review and reproduction at the Commission in the Public Reference Room at 888 First Street, NE, Room 2A, Washington, DC 20426. The filing may also be viewed on the web at http://www.ferc.gov. using the “eLibrary” link. Enter the docket number excluding the last three digits (P-10395) in the docket number field to access the document. For assistance, call toll-free 1-866-208-3676 or e-mail FERCOSupport@ferc.gov.. For TTY, call (202) 502-8659. A copy is also available for review and reproduction at the address in item g. above.

l. Individuals desiring to be included on the Commission's mailing list should so indicate by writing to the Secretary of the Commission.

m. Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

n. Filing and Service of Responsive Documents—Any filings must bear in all capital letters the title “COMMENTS”, “PROTEST”, OR “MOTION TO INTERVENE”, as applicable, and the Project Number of the particular application to which the filing refers. Any of the above-named documents must be filed by providing the original and the number of copies provided by the Commission's regulations to: The Secretary, Federal Energy Regulatory Commission, 888 First Street, NE., Washington, DC 20426. A copy of any motion to intervene must also be served upon each representative of the Applicant specified in the particular application.

o. Agency Comments—Federal, state, and local agencies are invited to file comments on the described application. A copy of the application may be obtained by agencies directly from the Applicant. If an agency does not file comments within the time specified for filing comments, it will be presumed to have no comments. One copy of an agency's comments must also be sent to the Applicant's representatives.

Magalie R. Salas,
Secretary.

[FR Doc. E3-00169 Filed 11-4-03; 8:45 am]

BILLING CODE 6717-01-P